DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Grantee Reporting Requirements for the Ryan White Comprehensive AIDS Resources Emergency (CARE) Act of 1990, Title III HIV Early Intervention Services Program (OMB 0915-0158)—Revision

Section 2651 of the Public Health Service (PHS) Act (commonly known as Title III of the Ryan White Comprehensive AIDS Resource Emergency (CARE) Act of 1990), provides categorical funding to increase the capacity and capability of organizations that provide primary health care to HIV-related early intervention services to medically underserved persons who have, or are at high risk for, HIV infection. These services are provided as part of a continuum of HIV prevention and health care services.

This clearance request is for a revision of OMB approval of the Title III Program Data Report form, which is submitted annually by Title III grant recipients. The bulk of the information being collected describes the epidemiologic and demographic characteristics of the populations receiving early intervention services from grant recipients, and provides the basis for the annual report to the Secretary, which is legislatively mandated. It is also used to monitor the delivery of services, guide federal policy, and assist in program development and evaluation.

The estimated response burden is as follows:

Form | Number of respondents | Responses per respondent | Hours per response | Total burden hour
Progress Report | 348 | 1 | 84 | 29,232
Total | 348 |  |  | 29,232

Send comments to Susan G. Queen, HRSA Reports Clearance Officer, Room 14-33, Parklawn Building, 5600 Fishers Lane, Rockville, MD 20857. Written comments should be received within 60 days of this notice.

Dated: March 13, 2000.
Jane Harrison,
Director, Division of Policy Review and Coordination.

[FR Doc. 00-6629 Filed 3-16-00; 8:45 am]

BILLING CODE 4160-15-U